DEPARTMENT OF AGRICULTURE

Agricultural Marketing Service

[Docket # FV-03-331]

United States Standards for Grades of Canned Sweet Potatoes

AGENCY: Agricultural Marketing Service, USDA.

ACTION: Notice.

SUMMARY: The Agricultural Marketing Service (AMS), prior to undertaking research and other work associated with revising an official grade standard, is soliciting comments on the petition to change the United States Standards for Grades of Canned Sweet Potatoes. AMS received two petitions from food processors asking USDA to consider revising the current definition for the style of “Whole” in the U.S. Grade Standard for Canned Sweet Potatoes.

DATES: Comments must be submitted on or before May 12, 2003.

ADDRESSES: Interested persons are invited to submit written comments concerning this notice. Comments must be sent to Chere L. Shorter, Standardization Section, Processed Products Branch, Fruit and Vegetable Programs, Agricultural Marketing Service, U.S. Department of Agriculture, 1400 Independence Avenue SW., Room 0709, South Building; STOP 0247, Washington, DC 20250; fax (202) 690-1527, e-mail Chere.Shorter@usda.gov. The United States Standards for Grades of Canned Sweet Potatoes is available either through the address cited above or by accessing the AMS Web site on the Internet at- http://www.ams.usda.gov/fv/ppb.html.

SUPPLEMENTARY INFORMATION:

Background

AMS received two petitions from food processors requesting the revision of the United States Standards for Grades of Canned Sweet Potatoes.

The petitioners are requesting the USDA to revise the definition of the style of “Whole” to reflect newer varieties, new sorting techniques, and canning processes. The “Beauregard” variety, a new variety widely used in canned sweet potatoes is oddly shaped and must be cut and trimmed to give the appearance of a whole sweet potato. This variety may or may not be tapered on one end and because of mechanical trimming, may not meet the definition of whole.

The current definition for the style of “Whole” states, “Whole means the canned sweet potatoes have the appearance of being essentially whole or almost whole in that the units retain the approximate shape of whole sweet potatoes.”

The petitioners want to revise the definition for canned whole sweet potatoes to allow for those that are cylindrical in shape, two inches plus or minus 0.5 inches in length, by 1.5 inches plus or minus .25 inches in diameter for 404 times 307 and 603 times 700 can sizes and 1.0 inch plus or minus 0.25 inches in diameter for smaller can sizes.

The petitioners believe changing the standard will promote uniformity in the grading of canned whole sweet potatoes. A copy of the petitioners' requests are located on the AMS Web site at http://www.ams.usda.gov/fv/ppb.html.

Agricultural Marketing Service

Prior to undertaking detailed work to develop a proposed revised standard AMS is soliciting comments on the petitions to revise the standard for Grades of Canned Sweet Potatoes. In particular, AMS would welcome comments and information regarding the likely utility of a revised definition for style of “whole” in the standard for canned sweet potatoes and the probable impact on consumers, processors, and growers.

This notice provides for a 60-day comment period for interested parties to comment on changes to the standard. Should AMS conclude that there is a need for the change in the standard, the revised standard will be published in the Federal Register with a request for comments in accordance with 7 CFR Part 36.

Authority: 7 U.S.C. 1621-1627.

Dated: March 6, 2003.
A.J. Yates,
Administrator, Agricultural Marketing Service.

[FR Doc. 03-5845 Filed 3-11-03; 8:45 am]

BILLING CODE 3410-02-P